DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2009 Management and Organizational Practices Survey.

Form Number(s): MP-10002.

OMB Control Number: None.

Type of Request: New collection.

Burden Hours: 25,000.

Number of Respondents: 50,000.

Average Hours Per Response: 30 minutes.

Needs and Uses: The Census Bureau plans to conduct the Management and Organizational Practices Survey (MOPS) as a one time inquiry with possible future annual data collection pending funding. This survey will utilize the Annual Survey of Manufactures (ASM) survey panel collecting information on management and organizational practices at the establishment level. Data obtained from the survey will allow us to estimate a firm's stock of management and organizational assets, specifically the use of decentralized decision rights and greater investments in human capital. The results will provide information on investments in organizational practices thus allowing us to gain a better understanding of the benefits from these investments when measured in terms of firm productivity or firm market value. A manufacturing sector establishment based survey on management and organizational practices would provide information on the dimensions of organizational capital for this sector that is not currently available.

Understanding the determinants of productivity growth is essential to understanding the dynamics of the U.S. economy. The Management and Organizational Practices Survey (MOPS) will provide information on whether the large and persistent differences in productivity across establishments (even within the same industry) are partly driven by differences in management and organizational practices. In addition to increasing our understanding of the dynamics of the economy, the MOPS will provide policy makers with some guidance in attempts to raise aggregate productivity levels. Policymakers, such as the Federal Reserve Board, can use the MOPS to understand the current state and evolution of management and organizational practices which can in turn aid the policymakers in forecasting future productivity growth.

Management data will also be particularly important for understanding what policymakers can do to assist U.S. manufacturing companies hit particularly hard by the recent recession. There has been renewed policy interest in approaches to support the manufacturing industry. For example, some policymakers have suggested extending programs like the Manufacturing Extension Program (MEP). The MEP is a nationwide system of resources, transforming manufactures to compete globally by making use of modern manufacturing equipment, innovative methodologies, and management practices to improve/increase the productivity in the manufacturing sector. The MOPS would provide information on differences in manufacturing management and organizational practices by region, industry and firm size which would directly aid policy discussions about the potential impact of programs like the MEP. Researchers for this proposed survey have discussed with members of the Council of Economic Advisors the potential impact of management practices on manufacturing performance and the evaluation of the MEP. In a similar vein, researchers on this proposal have had discussions with members of the current administration about measuring and evaluating differences in healthcare management and its links to patient outcomes. The MOPS could also provide information in this area.

Affected Public: Business or other for-profit.

Frequency: Annually.

Respondent's Obligation: Mandatory.

Legal Authority: Title 13 U.S.C., Sections 131, 182, 193, and 224.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: December 13, 2010.
Glenna Mickelson,
Management Analyst, Office of the Chief Information Officer.

[FR Doc. 2010-31679 Filed 12-16-10; 8:45 am]

BILLING CODE 3510-07-P